OVERSEAS PRIVATE INVESTMENT CORPORATION

Office of Administrative Services; Mandatory Declassification Review Address

AGENCY: Overseas Private Investment Corporation.

ACTION: Notice.

SUMMARY: Pursuant to Executive Order 13526 and 32 CFR parts 2001 and 2003 section 2001.33, this notice provides the Overseas Private Investment Corporation address to which written Mandatory Declassification Review (MDR) requests may be sent. This notice benefits the public in advising them where to send such requests for declassification review. MDR is a mechanism provided in Executive Order 13526 whereby an individual may request the declassification review of specific classified material that (s)he is able to identify so that the agency may retrieve it with reasonable effort.

SUPPLEMENTARY INFORMATION: It is the policy of OPIC to act in matters relating to national security information in accordance with Executive Order 13526 and directives issued there-under by the Information Security Oversight Office (ISOO). OPIC does not have the authority to classify national security information. Documents that are originally classified outside of OPIC must be sent to that respective agency to be reviewed for declassification. Requests for classified information in OPIC's custody are forwarded to the classifying agency for review.

Related Information: For more information on Executive Order 13526 and the U.S. Government's directives on classification, declassification, marking, and safeguarding of classified information, please refer to the following:

—Information Security Oversight Office (National Archives and Records Administration)

—Federal Register Notice 75 FR 707, “Classified National Security Information” (January 5, 2010)

—Federal Register Notice 75 FR 37254, “32 CFR Parts 2001 and 2003 Classified National Security Information”

Where To File a Request for MDR:

MDR requests must be sent in writing to the following address or facsimile:

Overseas Private Investment Corporation, Ms. Lena Paulsen, Director, Security & Administrative Services, Security and Administrative Services, 1100 New York Ave., NW., Washington, DC 20527, Telephone: 202-336-8565.

FAX: 202-408-9859.

E-mail: lena.paulsen@opic.gov.

How To Request MDR

The request should specifically mention MRD under E.O. 13526. The request must identify the document or information to be reviewed with as much specificity as possible. MDRs should be filed only for the declassification and release of information known to be classified.

Dated: December 9, 2010.
Connie M. Downs,
Corporate Secretary.

[FR Doc. 2010-31315 Filed 12-13-10; 8:45 am]

BILLING CODE 3210-01-P